DEPARTMENT OF EDUCATION

Applications for New Awards; Expanding Access to Well-Rounded Courses Demonstration Grants

AGENCY: Office of Elementary and Secondary Education, Department of Education.

ACTION: Notice.

SUMMARY: The Department of Education (Department) is issuing a notice inviting applications for fiscal year (FY) 2020 for the Expanding Access to Well-Rounded Courses Demonstration Grants program, Catalog of Federal Domestic Assistance (CFDA) number 84.424D. This notice relates to the approved information collection under OMB control number 1894-0006.

DATES: Applications Available: April 27, 2020.

Deadline for Transmittal of Applications: June 26, 2020.

Deadline for Intergovernmental Review: August 25, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Elyse Robertson, U.S. Department of Education, 400 Maryland Avenue SW, Room 3E337, Washington, DC 20202-6450. Telephone: (202)260-0931. Email: courseaccess@ed.gov.

If you use a telecommunications device for the deaf (TDD) or a text telephone (TTY), call the Federal Relay Service (FRS), toll free, at 1-800-877-8339.

Full Text of Announcement

I. Funding Opportunity Description

Purpose of Program: The Expanding Access to Well-Rounded Courses Demonstration Grants program provides competitive grants to State educational agencies (SEAs) to demonstrate models for providing well-rounded educational opportunities through course-access programs (as defined in this notice).

Background: This program is being established with funds from the two percent reservation for technical assistance and capacity building under section 4103(a)(3) of the Elementary and Secondary Education Act of 1965, as amended by the Every Student Succeeds Act (ESEA), which is intended to support SEAs and local educational agencies (LEAs) in carrying out activities authorized under the Student Support and Academic Enrichment Grants program in title IV, part A of the ESEA. Specifically, this program is intended to help build the capacity of SEAs and LEAs to provide well-rounded educational opportunities, consistent with section 4107 of the ESEA, by demonstrating models for delivering such opportunities through programs that make courses broadly available to students, which could include specialized coursework, courses that are more rigorous than the regular curricula (e.g., Advanced Placement or International Baccalaureate courses), career and technical education, remedial or credit recovery courses, or elective courses (e.g., arts, world languages, or consumer sciences).

There is considerable evidence that students across the country lack access to a variety of course offerings, articularly those related to the arts, science, echnology, engineering, and mathematics, including Computer science; ¹ career and technical education; and advanced level coursework. For example, based on analysis of Civil Rights Data Collection (CRDC) data from school year (SY) 2015-16 data, ExcelinED reported “that across the country, nearly 1.4 million students attend public high schools that do not offer Algebra I or the subsequent progression of math courses expected by many colleges and universities for enrollment” and “according to the self-reported data in the CRDC, not a single state offers Algebra I or Biology in all high schools.” ² Furthermore, CRDC data from SY 2013-14 reported that only around 2.5 million public school students were enrolled in at least one advanced placement course.³ Even when a student has access to advanced coursework, a school may lack an arts course or an enrichment activity that best aligns with the individual student's needs and interests.

¹ Lifelong access to high-quality STEM education is part of the vision of the Five Year Federal STEM Strategic Plan. Read more here: The White House, National Science and Technology Council, “Charting A Course For Success: America's Strategy For STEM Education,” www.whitehouse.gov/wp-content/uploads/2018/12/STEM-Education-Strategic-Plan-2018.pdf (December 2018).

² www.excelined.org/wp-content/uploads/2018/10/ExcelinEd.Report.CollegeCareerPathways.CRDCAnalysis.2018.pdf.

³ https://ocrdata.ed.gov/StateNationalEstimations/Estimations_2013_14.

The National Center for Education Statistics, in The Condition of Education 2019, found that in SY 2016-17, “the adjusted cohort graduation rate (ACGR) for high school students was 85 percent, the highest it has been since the rate was first measured in 2010-11.” ⁴ Even though high school graduation rates are increasing, there is debate as to whether students are graduating with the necessary skills and knowledge to be college and career ready. Well-rounded education has been found to benefit students' college and career readiness. According to the College and Career Readiness and Success Center at the American Institutes for Research, “ESSA positions a well-rounded education as a primary policy lever to support states' efforts to fulfill the promise and need for more students who are ready for both college and career by calling on districts and schools to integrate goals and initiatives related to college and career readiness into curricula, improved conditions for learning, and other educational experiences that may constitute a well-rounded education.” ⁵

⁴ https://nces.ed.gov/pubs2019/2019144.pdf.

⁵ https://ccrscenter.org/sites/default/files/AskCCRS_Well-Rounded_Education.pdf.

To promote access to well-rounded courses, including through a system supported by a grant under this program, States can leverage a combination of Federal, State, and local funds. States can include funds that support direct student services under section 1003A of the ESEA to support services under this program, as well as funds reserved for State-level activities under title IV, part A of the ESEA (ESEA section 4104(a)(3)). ESEA section 1003A permits a State to reserve funds to make awards to LEAs to support specific direct student services, including credit recovery and academic acceleration courses that lead to a regular high school diploma. Section 1003A requires that an LEA receiving section 1003A funds prioritize certain students in certain schools in paying for direct student services. For more information on requirements for using those funds, see section 1003A of the ESEA.

Districts can also leverage Federal, State, and local funds to support well-rounded education. The Department recently published a report about how States and districts are using their title IV, part A Student Support and Academic Enrichment Grants.⁶ Career and technical education (CTE), multidisciplinary programs, American history, civics, economics, geography, government, and foreign languages were among less frequently reported district uses of funds. A program offered through this course access demonstration grant may increase student access to broad range of courses, including those not otherwise emphasized using district title IV, part A funds.

⁶ U.S. Department of Education, Office of Planning, Evaluation and Policy Development, Student Support and Academic Enrichment Grants: A First Look at Activities Supported Under Title IV, Part A, Washington, DC, 2020. https://www2.ed.gov/rschstat/eval/esea/title-iv-first-look-2020.pdf. Accessed March 10, 2020.

Priority: This notice contains one absolute priority. We are establishing this priority for the FY 2020 grant competition and any subsequent year in which we make awards from the list of unfunded applications from this competition, in accordance with section 437(d)(1) of the General Education Provisions Act (GEPA), 20 U.S.C. 1232(d)(1).

Absolute Priority: This priority is an absolute priority.

Under 34 CFR 75.105(c)(3) we consider only applications that meet this priority.

This priority is:

Expanding Access to Well-Rounded Courses.

Under this priority, the Department considers only applicants that propose to (a) develop or expand, (b) implement, and (c) widely disseminate information on course-access programs (as defined in this notice) to other State or local education leaders and researchers. To meet this absolute priority, an SEA must describe how its course-access program as a whole would make a broad range of courses widely available for all students in the State, though a particular course need not be available to every student in the State (i.e., in the case of an in-person course available in a particular location). The SEA must also specifically describe how, in addition to serving all students, its proposed program would meet the needs of rural students, disadvantaged students, or students with disabilities, and contribute to preparing students to be college and career ready.

Requirements: We are establishing these requirements for the FY 2020 grant competition and any subsequent year in which we make awards from the list of unfunded applications from this competition, in accordance with section 437(d)(1) of GEPA, 20 U.S.C. 1232(d)(1).

Application Requirements: An SEA must include the following in its application:

(1) A description of the SEA's approach to developing or expanding, and implementing, a course-access program using this grant. An SEA must—

(a) Describe its approach to developing or expanding, and implementing, a course-access program using this grant, including the types of courses it proposes to offer. The applicant should describe how the SEA will determine which courses to offer and how it will ensure the courses it offers are high-quality and contribute to preparing students for college and career. The description must include the learning formats of the courses (e.g., distance learning, online courses, in-person courses), and the resulting course-access program must include more than one learning format among the course offerings, but a specific course need not be available in multiple formats. The description must also address how, in addition to meeting the needs of all students, the courses it proposes to offer to meet the needs of rural students, disadvantaged students, or students with disabilities;

(b) Describe how its approach will complement, rather than duplicate, existing efforts to provide students with access to courses that contribute to a well-rounded education, how project funds will supplement, and not supplant, non-Federal funds that would otherwise be available for activities funded under this program, and how the project will integrate existing funding streams from other programs, such as but not limited to the Student Support and Academic Enrichment program authorized by title IV, part A of the ESEA, to support the project;

(c) Describe how its approach will ensure that any student in the State has the opportunity to request access to courses and how the SEA will determine which students to serve if it receives more requests for services than available funds can support (e.g., a lottery system, priority for students with the greatest need, first-come first-served, or other criteria that are fair and publicly available); and

(d) Describe how it will engage a broad range of stakeholders, which may include school administrators, teachers, and families from geographically and economically diverse school districts, to support the development and the continuous improvement of the course-access program.

(2) A plan for promoting awareness of and participation in the SEA's course-access program using this grant.

An SEA must describe how it will provide outreach to students, parents (as defined in this notice), and educators on the availability of courses in its course-access program and how students, or parents on behalf of students, will select and be enrolled in those courses. The plan should specifically address how the SEA will provide outreach to all students, including rural students, disadvantaged students, or students with disabilities, or students that have been traditionally underrepresented in the courses the applicant is proposing to offer. This plan must include an approach to receiving requests from parents to add course offerings not included in the SEA's course-access program, to which the SEA must respond to the parents in writing.

(3) A description of the SEA's approach to paying for students' participation in course offerings funded under this grant. An SEA must—

(a) Describe any criteria it will use to identify course providers;

(b) Describe the methods that it will use to pay for students to participate in courses.⁷

⁷ A combination of Federal, State, and local funds, including funds that support direct student services under section 1003A of the ESEA, may be used to support services under this program. ESEA section 1003A permits a State to reserve funds to make awards to LEAs to support specific direct student services, including credit recovery and academic acceleration courses that lead to a regular high school diploma. Section 1003A requires that an LEA receiving section 1003A funds prioritize certain students in certain schools in paying for direct student services. For more information on requirements for using those funds, see section 1003A of the ESEA.

(c) Describe how the SEA will establish a written agreement between the SEA and each provider that must include—

(i) A nondiscrimination clause that requires the provider to abide by all applicable non-discrimination laws with regard to students to be served, e.g., on the basis of race, color, national origin, sex, or disability;

(ii) A description of how the grantee will oversee the service provider and hold the provider accountable for—

(A) The terms of the written agreement; and

(B) The use of funds, including compliance with generally accepted accounting procedures and Federal cost principles; and

(iii) A provision for the termination of the agreement if the provider is unable to meet the terms of the agreement.

(4) A project plan that includes a specific timeline for developing or expanding, and implementing a course-access program.

An SEA must provide a detailed plan for developing or expanding, and implementing a course-access program and continuously improving grant activities. As necessary and appropriate, an SEA may include in its plan a period of up to 12 months during the first year of the project period for program development. SEAs that propose to use this option must provide sufficient justification for why this program planning time is necessary, provide the intended outcomes of program planning in Year 1, and include a description of the proposed strategies and activities to be supported, which may include, but are not limited to, performing outreach to communities in need of support and training schools, LEAs, and community members.

(5) A description of how an SEA will document and disseminate the results of the funded project. An SEA must describe how it will document and disseminate results of the project, consistent with the Family Educational Rights and Privacy Act (FERPA), to promote improved capacity to implement course-access programs in other States, communities and schools. At a minimum, the SEA must describe how it will document and disseminate information on course offerings, course enrollment rates, and changes in academic success for participating students. This description must include an explanation of the SEA's approach to contributing to the evidence base for course-access programs while protecting student privacy.

Definitions: The definitions of “local educational agency,” “parent,” “State educational agency,” and “well-rounded education” are from 20 U.S.C. 7801. The definition of “career and technical education” is from 20 U.S.C. 2302(5).

We establish the definition of “course-access program” for the FY 2020 grant competition and any subsequent year in which we make awards from the list of unfunded applications from this competition, in accordance with section 437(d)(1) of GEPA, 20 U.S.C. 1232(d)(1).

These definitions are:

Career and technical education means organized educational activities that—

(A) Offer a sequence of courses that—

(i) Provides individuals with rigorous academic content and relevant technical knowledge and skills needed to prepare for further education and careers in current or emerging professions, which may include high-skill, high-wage, or in-demand industry sectors or occupations, which shall be, at the secondary level, aligned with the challenging State academic standards adopted by a State under section 1111(b)(1) of the Elementary and Secondary Education Act of 1965;

(ii) Provides technical skill proficiency or a recognized postsecondary credential, which may include an industry-recognized credential, a certificate, or an associate degree; and

(iii) May include prerequisite courses (other than a remedial course) that meet the requirements of this definition;

(B) Include competency-based, work-based, or other applied learning that supports the development of academic knowledge, higher-order reasoning and problem solving skills, work attitudes, employability skills, technical skills, and occupation-specific skills, and knowledge of all aspects of an industry, including entrepreneurship, of an individual;

(C) To the extent practicable, coordinate between secondary and postsecondary education programs through programs of study, which may include coordination through articulation agreements, early college high school programs, dual or concurrent enrollment program opportunities, or other credit transfer agreements that provide postsecondary credit or advanced standing; and

(D) May include career exploration at the high school level or as early as the middle grades (as such term is defined in section 8101 of the ESEA).

Course-access program means a program that—

(1) Provides students the option to enroll in one or more courses that contribute to a well-rounded education, such as remedial or credit recovery courses, accelerated learning courses, career and technical education (as defined in this notice), or elective courses;

(2) Must include courses offered by multiple providers, from which students, or parents on behalf of students, may choose;

(3) Makes available courses in at least two learning formats, including, but not limited to, distance learning, online courses, and classroom-based options, except that, for the purpose of this definition, an individual course need not be available in more than one format;

(4) Ensures that coursework materials and the formats and technologies by which they are made available are accessible to students with disabilities; and

(5) Is available to all students in the State, including private school students on an equitable basis, in accordance with section 8501 of the ESEA.

Local educational agency (LEA) means—

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) The term includes any other public institution or agency having administrative control and direction of a public elementary school or secondary school.

(c) The term includes an elementary school or secondary school funded by the Bureau of Indian Education but only to the extent that including the school makes the school eligible for programs for which specific eligibility is not provided to the school in another provision of law and the school does not have a student population that is smaller than the student population of the local educational agency receiving assistance under the ESEA with the smallest student population, except that the school shall not be subject to the jurisdiction of any State educational agency other than the Bureau of Indian Education.

(d) The term includes educational service agencies and consortia of those agencies.

(e) The term includes the State educational agency in a State in which the State educational agency is the sole educational agency for all public schools.

Parent—The term “parent” includes a legal guardian or other person standing in loco parentis (such as a grandparent or stepparent with whom the child lives, or a person who is legally responsible for the child's welfare).

State educational agency (SEA) means the agency primarily responsible for the State supervision of public elementary or secondary schools.

Well-rounded education means courses, activities, and programming in subjects such as English, reading or language arts, writing, science, technology, engineering, mathematics, foreign languages, civics and government, economics, arts, history, geography, computer science, music, career and technical education, health, physical education, and any other subject, as determined by the SEA or LEA, with the purpose of providing all students access to an enriched curriculum and educational experience.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under title IV, part A, subpart 1 of the ESEA (20 U.S.C. 7113(a)(3)) and therefore qualifies for this exemption. In order to ensure timely grant awards, the Secretary has decided to forgo public comment on the priority, definition, and requirements under section 437(d)(1) of GEPA. The priority, definition, and requirements will apply to the FY 2020 grant competition and any subsequent year in which we make awards from the list of unfunded applications from this competition.

Program Authority: Section 4103(a)(3) of title IV, part A of the ESEA (20 U.S.C. 7113).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $6,467,609.

Contingent upon the availability of funds and the quality of applications, we may make additional awards in FY 2021 and subsequent years from the list of unfunded applications from the competition announced in this notice.

Estimated Range of Awards: $1,000,000 to 3,000,000 per year.

Estimated Average Size of Awards: $2,000,000 per year.

Maximum Award: We will not make an award exceeding $3,000,000 for a single budget period of 12 months.

Estimated Number of Awards: 2-4.

Note: The Department is not bound by any estimates in this notice.

Project Period: Up to 60 months.

III. Eligibility Information

1. Eligible Applicants: SEAs.

2. a. Cost Sharing or Matching: This program does not require cost sharing or matching.

b. Supplement-Not-Supplant: This program involves supplement-not-supplant funding requirements. Neither an SEA nor an LEA may reduce funding or services to a student as a result of the student taking a course supported by this program.

3. Subgrantees: A grantee under this competition may not award subgrants to entities to directly carry out project activities described in its application.

4. Equitable Services: A grantee under this program is required to provide for the equitable participation of private school children, in accordance with section 8501 of the ESEA (20 U.S.C. 7881).

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this program.

3. Funding Restrictions: Funds under this program may be used only for costs related to developing or expanding, implementing, and disseminating information on course-access programs, which may include instructional costs (e.g., course materials and fees).

We reference regulations outlining funding restrictions in the Applicable Regulations section of this notice.

V. Application Review Information

1. Selection Criteria: The selection criteria for this program are from 34 CFR 75.210. The maximum score for all selection criteria is 100 points. The points or weights assigned to each criterion are indicated in parentheses. Non-Federal peer reviewers will evaluate and score each application against the following selection criteria:

(a) Significance (10 points).

The Secretary considers the significance of the proposed project. In determining the significance of the proposed project, the Secretary considers the following factors:

(i) The extent to which the proposed project is likely to build local capacity to provide, improve, or expand services that address the needs of the target population.

(ii) The potential replicability of the proposed project or strategies, including, as appropriate, the potential for implementation in a variety of settings.

(b) Quality of Project Design (30 points).

The Secretary considers the quality of the design of the proposed project. In determining the quality of the design of the proposed project, the Secretary considers the following factors:

(i) The extent to which the proposed project is part of a comprehensive effort to improve teaching and learning and support rigorous academic standards for students.

(ii) The quality of the proposed demonstration design and procedures for documenting project activities and results.

(iii) The extent to which the design of the proposed project reflects up-to-date knowledge from research and effective practice.

(c) Quality of Project Services (40 points).

The Secretary considers the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(i) The extent to which the proposed project represents an exceptional approach to the priority or priorities established for the competition.

(ii) The extent to which specific gaps or weaknesses in services, infrastructure, or opportunities have been identified and will be addressed by the proposed project, including the nature and magnitude of those gaps or weaknesses.

(iii) The extent to which the services to be provided by the proposed project are appropriate to the needs of the intended recipients or beneficiaries of those services.

(iv) The adequacy of mechanisms for ensuring high-quality products and services from the proposed project.

(d) Quality of Management Plan (20 points).

The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The extent to which the proposed project will integrate with or build on similar or related efforts to improve relevant outcomes (as defined in 34 CFR 77.1(c)), using existing funding streams from other programs or policies supported by community, State, and Federal resources.

(iii) How the applicant will ensure that a diversity of perspectives are brought to bear in the operation of the proposed project, including those of parents, teachers, the business community, a variety of disciplinary and professional fields, recipients or beneficiaries of services, or others, as appropriate.

(iv) The adequacy of procedures for ensuring feedback and continuous improvement in the operation of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200 subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting:

(a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the Expanding Access to Well-Rounded Courses Demonstration Grants program:

(a) The number of courses available through the course access program disaggregated by (1) subject matter and (2) delivery format (e.g., distance learning, online courses, blended learning, or in-person classroom courses).

(b) The number of students who select and participate in course offerings supported by funds from this grant in comparison to the total number of students in the State.

(c) The course passage rate for course offerings supported by funds from this grant.

(d) The average cost per student participating in the course offerings disaggregated by (1) subject matter and (2) delivery format (e.g., distance learning, online courses, blended learning, or in-person classroom courses).

(e) Parent and student satisfaction with the available course offerings in terms of variety, accessibility, and quality of the courses.

These measures constitute the Department's indicators of success for this program. Consequently, we advise an applicant for a grant under this program to carefully consider these measures in conceptualizing the approach and evaluation for its proposed project. Each grantee will be required to provide, in its annual performance and final reports, data about its progress with respect to these measures. These data will be considered by the Department in making continuation awards.

Consistent with 34 CFR 75.591, grantees funded under this program must comply with the requirements of any evaluation of the program conducted by the Department or an evaluator selected by the Department.

Note: If the applicant does not have experience with collection and reporting of performance data through other projects or research, the applicant should provide other evidence of capacity to successfully carry out data collection and reporting for its proposed project.

The reviewers of each application will score related selection criteria on the basis of how well an applicant has considered these measures in conceptualizing the approach and evaluation of the project.

All grantees must submit an annual performance report and final performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-08848 Filed 4-24-20; 8:45 am]

BILLING CODE 4000-01-P